DEPARTMENT OF LABOR

Employment and Training Administration

[TA-W-38,115]

Wallowa Forest Products, Wallowa, Oregon; Notice of Revised Determination on Reopening

On October 18, 2000, the company requested Administrative Reconsideration for workers and former workers of the subject firm engaged in the production of stud lumber.

The initial investigation resulted in a negative determination issued on October 3, 2000, because imports did not contribute importantly to the worker separations. The notice soon will be published in the Federal Register.

New information submitted to the Department by the company and additional information supplied by a primary customer of the subject firm revealed that the customer has increased purchases of imported stud lumber while reducing purchases from the subject firm.

Conclusion

After careful consideration of the new facts obtained on reopening, it is concluded that increased imports of articles like or directly competitive with apparel produced by the subject firm contributed importantly to the decline in sales and to the total or partial separation of workers of the subject firm. In accordance with the provisions of the Trade Act of 1974, I make the following revised determination:

All workers of Wallowa Forest Products, Wallowa, Oregon, who became totally or partially separated from employment on or after June 27, 1999 through two years from the date of this certification are eligible to apply for adjustment assistance under Section 223 of the Trade Act of 1974.

Signed at Washington, DC this 19th day of October 2000.
Linda G. Poole,
Certifying Officer, Division of Trade Adjustment Assistance.

[FR Doc. 00-28025 Filed 10-31-00; 8:45 am]

BILLING CODE 4510-30-M